Title 3—

The President

Memorandum of June 29, 2004

Administration of Certain Appropriations Relating to Iraq

Memorandum for the Secretary of State[,] the Secretary of Defense[, and] the Director of the Office of Management and Budget

By the authority vested in me by the Constitution and the laws of the United States of America, including section 632 of the Foreign Assistance Act of 1961, as amended (22 U.S.C. 2392), I hereby direct as follows:

1. The unobligated balances as of the end of June 30, 2004, of the funds appropriated to the President under the heading, “Operating Expenses of the Coalition Provisional Authority,” in the Emergency Supplemental Appropriations Act for Defense and for the Reconstruction of Iraq and Afghanistan, 2004 (Public Law 108-106) and any funds appropriated to the President under that heading in any Act enacted subsequent to Public Law 108-106 are transferred to the Secretary of State. Such amounts shall exclude those made available to the Inspector General of the Coalition Provisional Authority, and the amount reapportioned to “Operating Expenses of the Coalition Provisional Authority” on June 25, 2004. The Secretary of State shall ensure use of such funds in a manner consistent with Presidential guidance concerning United States Government operations in Iraq.

2. Effective at the end of June 30, 2004, this memorandum supersedes paragraph 1 of the Presidential Memorandum entitled, “Transfer of Funds Appropriated to the President under the heading Operating Expenses of the Coalition Provisional Authority, and Delegation of the Functions of the President under the heading Iraq Relief and Reconstruction Fund, in the Emergency Supplemental Appropriations Act for Defense and for the Reconstruction of Iraq and Afghanistan, 2004” (December 5, 2003).

The Secretary of State is authorized and directed to publish this memorandum in the Federal Register.

B

THE WHITE HOUSE,

Washington, June 29, 2004.

[FR Doc. 04-15296

Filed 7-1-04; 9:21 am]

Billing code 4710-10-P